DEPARTMENT OF THE INTERIOR

Minerals Management Service

Notice on Outer Continental Shelf (OCS) Oil and Gas Lease Sales

AGENCY: Minerals Management Service, Interior.

ACTION: List of restricted joint bidders.

SUMMARY: Pursuant to the authority vested in the Director of the MMS by the joint bidding provisions of 30 CFR 256.41, each entity within one of the following groups shall be restricted from bidding with any entity in any other of the following groups at OCS oil and gas lease sales to be held during the bidding period November 1, 2003, through April 30, 2004. The List of Restricted Joint Bidders published April 28, 2003, in the Federal Register at 68 FR 81 covered the period May 1, 2003, through October 31, 2003.

Group I.

Exxon Mobil Corporation

ExxonMobil Exploration Company

Group II.

Shell Oil Company

Shell Offshore Inc.

SWEPI LP

Shell Frontier Oil & Gas Inc.

Shell Consolidated Energy Resources Inc.

Shell Land & Energy Company

Shell Onshore Ventures Inc.

Shell Offshore Properties and Capital II, Inc.

Shell Rocky Mountain Production LLC

Shell Gulf of Mexico Inc.

Group III.

BP American Production Company

BP Exploration & Production Inc.

BP Exploration (Alaska) Inc.

Group IV.

TOTAL E&P USA, Inc.

Group V.

ChevronTexaco Corporation

Chevron U.S.A. Inc.

Texaco Inc.

Texaco Exploration and Production Inc.

Dated: September 24, 2003.
Walter D. Cruickshank,
Acting Director, Minerals Management Service.

[FR Doc. 03-25738 Filed 10-9-03; 8:45 am]

BILLING CODE 4310-MR-P